NUCLEAR REGULATORY COMMISSION

[Docket No. 50-382]

Entergy Operations, Inc.; Notice of Issuance of Amendment to Facility Operating License

The U.S. Nuclear Regulatory Commission (Commission) has issued Amendment No. 199 to Facility Operating License (FOL) No. NPF-38 to Entergy Operations, Inc. (the licensee), which revised the FOL and Technical Specifications (TSs) for operation of the Waterford Steam Electric Station, Unit 3 (Waterford 3), located in St. Charles Parish, Louisiana. The amendment modified the FOL and the TSs to allow an increase in the maximum authorized reactor core power level from 3441 megawatts thermal (MWt) to 3716 MWt, which represents a power increase of about 8 percent and is considered to be an extended power uprate (EPU). The amendment is effective as of the date of issuance and is to be implemented prior to restart from refueling outage 13 at the uprated power level.

The application for the amendment was dated November 13, 2003, Agencywide Documents Access and Management System (ADAMS) Accession Number ML040260317, as supplemented by letters dated January 29 (ML040340728), March 4 (ML040690028), April 15 (ML041110527), May 7 (ML041330175), May 12 (ML041380147), May 13 (ML041380145), May 21 (ML041460407), May 26 (ML041490335), July 14 (ML042010150), July 15 (ML042020294), July 28 (ML042120475), August 10 (ML042250177), August 19 (ML042360712), August 25 (ML042440417), September 1 (ML042470194), September 14 (ML042660243), October 8 (2 letters, ML042880327 and ML042880418), October 13 (ML042890193), October 18 (ML042940577), October 19 (ML043010129) October 21 (ML043010238), October 29 (2 letters, ML043080406 and ML043080403), November 4 (ML043140283), November 8 (ML043200122), November 16 (ML043270472), and November 19, 2004 (ML043280359), and January 5 (ML050100225), January 14 (ML050210054), February 5 (ML050400463), February 16 (ML050490396), and March 17, 2005 (ML050810095).

The application for the amendment complies with the standards and requirements of the Atomic Energy Act of 1954, as amended (the Act), and the Commission's rules and regulations in Title 10 of the Code of Federal Regulations (10 CFR) Chapter I, which are set forth in the license amendment.

The draft environmental assessment (EA), published in the Federal Register on October 12, 2004 (69 FR 60672), was related to the application dated November 13, 2003, as supplemented through August 10, 2004. The supplements, including those dated through March 17, 2005, did not change the assessment in the draft EA. The draft EA was published to provide a 30-day public comment period. There was one comment from Entergy Operations, Inc. dated November 11, 2004, which stated that (1) while the draft EA had implied that all sanitary wastes at Waterford 3 discharge to an onsite sewage treatment plant, the sanitary wastes at Waterford 3 are discharged from two different locations, and (2) the draft EA does accurately reflect that no increase in sanitary wastes is expected as a result of the proposed EPU.

The Commission has issued the Final EA related to the action and the determination on the environmental impact stated in the draft EA has not changed. Based upon the EA, the Commission has concluded that the issuance of the amendment will not have a significant effect on the quality of the human environment (70 FR 17128, published April 4, 2005).

As a part of the EPU application, by supplement dated October 29, 2004, the licensee requested, pursuant to 10 CFR 50.90, approval of an amendment for Waterford 3, to revise the minimum volume in the emergency diesel generator fuel oil storage tanks (FOSTs) required by Waterford 3 TSs 3.8.1.1 and 3.8.1.2. The NRC staff has determined that the amendment involves no significant increase in the amounts, and no significant change in the types, of any effluents that may be released offsite, and that there is no significant increase in individual or cumulative occupational radiation exposure. The Commission had previously issued a proposed finding that the amendment involved no significant hazards consideration, and there was no public comment on such finding published December 7, 2004 (69 FR 70716). This amendment revised the TSs for FOL No. NPF-38. The Commission's related evaluation of this change is contained in the Safety Evaluation for the EPU application. The effective date for this amendment is as of the date of issuance and to be implemented prior to restart from the refueling outage 13 in the spring of 2005 to support the power uprate implementation.

Accordingly, the amendment requesting changes to the FOST TSs meets the eligibility criteria for categorical exclusion set forth in 10 CFR 51.22(c)(9). Pursuant to 10 CFR 51.22(b) no environmental impact statement or environmental assessment need be prepared in connection with the issuance of this amendment. For further details with respect to the action, see (1) the application for the EPU amendment dated November 13, 2003, as supplemented by letters dated January 29, March 4, April 15, May 7, May 12, May 13, May 21, May 26, July 14, July 15, July 28, August 10, August 19, August 25, September 1, September 14, October 8 (2 letters), October 13, October 18, October 19, October 21, October 29 (2 letters), November 4, November 8, November 16, November 19, 2004, January 5, January 14, February 5, February 16, and March 17, 2005; (2) the Commission's related Safety Evaluation dated April 15, 2005; and (3) the Commission's EA. Documents may be examined, and/or copied for a fee, at the NRC's Public Document Room (PDR), located at One White Flint North, Public File Area O1F2, 11555 Rockville Pike (first floor), Rockville, Maryland. Publicly available records will be accessible electronically from the ADAMS Public Electronic Reading Room on the internet at the NRC Web site, http://www.nrc.gov/NRC/ADAMS/index.html. Persons who do not have access to ADAMS or who encounter problems in accessing the documents located in ADAMS should contact the NRC PDR Room Reference staff by telephone at 1-800-397-4209, (301) 415-4737, or by e-mail to pdr@nrc.gov.

Dated at Rockville, Maryland, this 15th day of April 2005.
For The Nuclear Regulatory Commission.
Thomas W. Alexion,
Project Manager, Section 1, Project Directorate IV, Division of Licensing Project Management, Office of Nuclear Reactor Regulation.

[FR Doc. E5-2038 Filed 4-27-05; 8:45 am]

BILLING CODE 7590-01-P